Title 3—

The President

Proclamation 10774 of June 5, 2024

National Day of Remembrance of the 80th Anniversary of D-Day

By the President of the United States of America

A Proclamation

On the evening of June 6, 1944, President Franklin D. Roosevelt broadcast a prayer for the Nation. At the time, war was raging in Europe, and Hitler controlled most of it. Freedom and democracy were under assault around the world. But on that day, hope had landed on the beaches of Normandy when 73,000 Americans joined the Allied forces to carry out one of the greatest military missions of all time—a mission that would become known as D-Day. Knowing the fate of the free world rested in their hands, President Roosevelt asked our Nation to pray for these courageous service members' strength as they “set upon a mighty endeavor, a struggle to preserve our Republic, our religion, and our civilization, and to set free a suffering humanity.” On the 80th anniversary of D-Day, may we thank these service members for their bravery and sacrifice. May we honor their heroism, which liberated a continent and saved the world. And may we recommit to the future they fought and which many died for.

The brave Airmen, Coast Guardsmen, Sailors, Soldiers, and Marines who fought on D-Day faced unparalleled resistance. Nazi Germany had reinforced the Atlantic Wall, lining miles of dangerous cliffs and rocky coastlines with landmines, beach and water obstacles, and machine gunners while also reinforcing its bunkers. So, when 7,000 vessels carrying nearly 160,000 service members from eight Allied countries approached Normandy, victory was never guaranteed. Our paratroopers that jumped behind enemy lines in the night and other military forces had to endure barrages of gunfire, trek through barbed wire, and climb steep sea walls. Over 2,500 Americans made the ultimate sacrifice, giving their lives so that the whole world might know freedom.

Today, we remember all the Americans who laid down their lives on D-Day to help end the tyranny of fascism across Europe, liberate oppressed peoples, and ensure the flame of liberty would burn bright around the world. Their success marked the beginning of the end of Nazi brutality, World War II, and the Holocaust—one of the darkest chapters in human history. It set the foundations of an enduring peace that still helps guide international cooperation and affairs today. We owe these service members, who represent the greatest of the Greatest Generation, as well as their families a debt of gratitude that we can never fully repay.

As we reflect on the sacrifices made on D-Day, we are reminded that freedom is not free and it has never been guaranteed. Every generation has to earn it, fight for it, and defend it in the battle between autocracy and democracy—between the greed of a few and the rights of many. Eighty years after our Nation's brave Airmen, Coast Guardsmen, Sailors, Soldiers, and Marines embarked on D-Day—and as Americans everywhere answered the call to prayer and filled their hearts and homes with hope—may we honor the faith they kept in our Nation and their legacy by upholding the future that they died for—one grounded in freedom, democracy, opportunity, and equality for all.

NOW, THEREFORE, I, JOSEPH R. BIDEN JR., President of the United States of America, by virtue of the authority vested in me by the Constitution and the laws of the United States, do hereby proclaim June 6, 2024, as a National Day of Remembrance of the 80th Anniversary of D-Day. I call upon all Americans to observe this day with programs, ceremonies, and activities that honor those who fought and died so that men and women they had never met might know what it is to be free.

IN WITNESS WHEREOF, I have hereunto set my hand this fifth day of June, in the year of our Lord two thousand twenty-four, and of the Independence of the United States of America the two hundred and forty-eighth.

[FR Doc. 2024-12862

Filed 6-10-24; 8:45 am]

Billing code 3395-F4-P